DEPARTMENT OF ENERGY

Federal Energy Regulatory Commission

Combined Notice of Filings #2

Take notice that the Commission received the following electric corporate filings:

Docket Numbers: EC17-72-000.

Applicants: Great Western Wind Energy, LLC.

Description: Application under Section 203 of the FPA of Great Western Wind Energy, LLC.

Filed Date: 1/30/17.

Accession Number: 20170130-5154.

Comments Due: 5 p.m. ET 2/21/17.

Take notice that the Commission received the following electric rate filings:

Docket Numbers: ER17-305-001.

Applicants: Midcontinent Independent System Operator, Inc., Ameren Illinois Company, Ameren Transmission Company of Illinois, Northern States Power Company, a Wisconsin corporation.

Description: Compliance filing: 2017-01-30_Compliance filing re AIC_ATXI_NSP Attachment O ADIT revisions to be effective 1/1/2017.

Filed Date: 1/30/17.

Accession Number: 20170130-5140.

Comments Due: 5 p.m. ET 2/21/17.

Docket Numbers: ER17-469-000.

Applicants: Southwest Power Pool, Inc.

Description: Report Filing: Supplement to ER17-469—Midwest Energy Formula Rate Revisions to be effective N/A.

Filed Date: 1/27/17.

Accession Number: 20170127-5091.

Comments Due: 5 p.m. ET 2/17/17.

Docket Numbers: ER17-482-001.

Applicants: BREG Aggregator LLC.

Description: Tariff Amendment: Supplement to Application for Market Based Rate Authority to be effective 1/31/2017.

Filed Date: 1/27/17.

Accession Number: 20170127-5216

Comments Due: 5 p.m. ET 2/17/17.

Docket Numbers: ER17-637-001.

Applicants: Mid-Atlantic Interstate Transmission, LLC, PJM Interconnection, L.L.C.

Description: Tariff Amendment: Penelec and MAIT Submit Amendment to Agency Agreement No. 4555 to be effective 12/31/9998.

Filed Date: 1/30/17.

Accession Number: 20170130-5110.

Comments Due: 5 p.m. ET 2/21/17.

Docket Numbers: ER17-885-000.

Applicants: GridLiance West Transco LLC.

Description: Initial rate filing: GWT Western Mead IA to be effective 3/1/2017.

Filed Date: 1/30/17.

Accession Number: 20170130-5111.

Comments Due: 5 p.m. ET 2/21/17.

Docket Numbers: ER17-886-000.

Applicants: Alabama Power Company.

Description: § 205(d) Rate Filing: SWE (SMEPA) NITSA Amendment Filing (To Remove Leaf River and Southern Pines DPs) to be effective 1/1/2017.

Filed Date: 1/30/17.

Accession Number: 20170130-5145.

Comments Due: 5 p.m. ET 2/21/17.

Docket Numbers: ER17-887-000.

Applicants: Alabama Power Company.

Description: § 205(d) Rate Filing: SMEPA NITSA Amendment Filing (To Add Leaf River and Southern Pines DPs) to be effective 1/1/2017.

Filed Date: 1/30/17.

Accession Number: 20170130-5149.

Comments Due: 5 p.m. ET 2/21/17.

Docket Numbers: ER17-888-000.

Applicants: PJM Interconnection, L.L.C.

Description: § 205(d) Rate Filing: Queue Position #AB1-125, Original Service Agreement No. 4617 to be effective 12/29/2016.

Filed Date: 1/30/17.

Accession Number: 20170130-5153.

Comments Due: 5 p.m. ET 2/21/17.

Docket Numbers: ER17-889-000.

Applicants: Southwest Power Pool, Inc.

Description: § 205(d) Rate Filing: 2646R3 Kansas Municipal Energy Agency NITSA NOA to be effective 1/1/2017.

Filed Date: 1/30/17.

Accession Number: 20170130-5163.

Comments Due: 5 p.m. ET 2/21/17.

Docket Numbers: ER17-890-000.

Applicants: Southwest Power Pool, Inc.

Description: § 205(d) Rate Filing: 1636R17 Kansas Electric Power Cooperative, Inc. NITSA and NOA to be effective 1/1/2017.

Filed Date: 1/30/17.

Accession Number: 20170130-5167.

Comments Due: 5 p.m. ET 2/21/17.

Docket Numbers: ER17-891-000.

Applicants: Louisville Gas and Electric Company.

Description: § 205(d) Rate Filing: IMEA-IMPA Revised PTP Service Agreements to be effective 2/1/2017.

Filed Date: 1/30/17.

Accession Number: 20170130-5219.

Comments Due: 5 p.m. ET 2/21/17.

Docket Numbers: ER17-892-000.

Applicants: Midcontinent Independent System Operator, Inc.

Description: Compliance filing: 2017-01-30_Compliance filing regarding calculations for SRIC and SREC to be effective 2/1/2017.

Filed Date: 1/30/17.

Accession Number: 20170130-5243.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2017.
Nathaniel J. Davis, Sr.,
Deputy Secretary.

[FR Doc. 2017-02329 Filed 2-2-17; 8:45 am]

BILLING CODE 6717-01-P